DEPARTMENT OF DEFENSE

Office of the Secretary

Charter Amendment of Department of Defense Federal Advisory Committees—Uniform Formulary Beneficiary Advisory Panel

AGENCY: Department of Defense (DoD).

ACTION: Charter amendment of federal advisory committee.

SUMMARY: The DoD is publishing this notice to announce that it is amending the charter for the Uniform Formulary Beneficiary Advisory Panel (UFBAP).

FOR FURTHER INFORMATION CONTACT: Jim Freeman, DoD Advisory Committee Management Officer, 703-692-5952.

SUPPLEMENTARY INFORMATION: The UFBAP's charter is being amended in accordance with 10 U.S.C. 1074g(c) and the Federal Advisory Committee Act (FACA) (5 U.S.C., appendix) and 41 CFR 102-3.50(a). The charter and contact information for the UFBAP's Designated Federal Officer (DFO) are found at https://www.facadatabase.gov/FACA/apex/FACAPublicAgencyNavigation.

The UFBAP provides the Secretary of Defense, Deputy Secretary of Defense (“the DoD Appointing Authority”), through the Under Secretary of Defense for Personnel and Readiness (USD(P&R), who shall consider the UFBAP's advice and recommendations before implementing changes to the uniform formulary in accordance with DoD policy and procedures.

Pursuant to 10 U.S.C. 1074g(c)(2), the UFBAP is composed of no more than 15 members and shall include members that represent: (a) Nongovernmental organizations and associations that represent the views and interests of a large number of eligible covered beneficiaries; (b) Contractors responsible for the TRICARE retail pharmacy program; (c) Contractors responsible for the national mail-order pharmacy program; and (d) TRICARE network providers.

Authority to invite or appoint individuals to serve on the UFBAP rests solely with the DoD Appointing Authority for a term of service of one-to-four years, with annual renewals, in accordance with DoD policy and procedures. No member, unless approved by the DoD Appointing Authority, may serve more than two consecutive terms of service on the UFBAP or serve on more than two DoD Federal advisory committees at one time. The DoD Appointing authority shall appoint the UFBAP's leadership from among the membership previously approved to serve on the UFBAP in accordance with DoD policy and procedures for term of service of one-to-two years, with annual renewal, not to exceed the member's approved appointment.

UFBAP members who are not full-time or permanent part-time Federal civilian officers or employees, or active duty members of the Uniformed Services, shall be appointed as experts or consultants pursuant to 5 U.S.C. 3109 to serve as special government employee members. UFBAP members who are full-time or permanent part-time Federal civilian officers or employees, or active duty members of the Uniformed Services, shall be appointed pursuant to 41 CFR 102-3.130(a) to serve as regular government employee members. All members of the UFBAP are appointed to exercise their own best judgment on behalf of the DoD, without representing any particular points of view, and to discuss and deliberate in a manner that is free from conflicts of interest. With the exception of reimbursement of official UFBAP-related travel and per diem, UFBAP members serve without compensation.

The public or interested organizations may submit written statements about the UFBAP's mission and functions. Written statements may be submitted at any time or in response to the stated agenda of planned meeting of the UFBAP. All written statements shall be submitted to the DFO for the UFBAP, and this individual will ensure that the written statements are provided to the membership for their consideration.

Dated: February 9, 2022.
Aaron T. Siegel,
Alternate OSD Federal Register, Liaison Officer, Department of Defense.

[FR Doc. 2022-03169 Filed 2-14-22; 8:45 am]

BILLING CODE 5001-06-P